DEPARTMENT OF THE TREASURY

Internal Revenue Service

26 CFR Part 1

[REG-155929-06]

RIN 1545-BG31

Payout Requirements for Type III Supporting Organizations That Are Not Functionally Integrated; Correction

AGENCY: Internal Revenue Service (IRS), Treasury.

ACTION: Correction to advance notice of proposed rulemaking.

SUMMARY: This document contains corrections to advance notice of proposed rulemaking (REG-155929-06) that was published in the Federal Register on Thursday, August 2, 2007 (72 FR 42335) regarding the payout requirements for Type III supporting organizations that are not functionally integrated, the criteria for determining whether a Type III supporting organization is functionally integrated, the modified requirements for Type III supporting organizations that are organized as trusts, and the requirements regarding the type of information a Type III supporting organization must provide to its supported organization(s) to demonstrate that it is responsive to its supported organization(s).

FOR FURTHER INFORMATION CONTACT: Philip T. Hackney or Michael B. Blumenfeld at (202) 622-6070 (not a toll-free number).

SUPPLEMENTARY INFORMATION:

Background

The correction notice that is the subject of this document is under sections 501(c)(3) and 509(a)(3) of the Internal Revenue Code.

Need for Correction

As published, the advance notice of proposed rulemaking (REG-155929-06) contains errors that may prove to be misleading and are in need of clarification.

Correction of Publication

Accordingly, the publication of advance notice of proposed rulemaking (REG-155929-06), which was the subject of FR Doc. E7-14925, is corrected as follows:

1. On page 42336, column 2, in the preamble, under the paragraph heading “Qualification Requirements for Type III Supporting Organizations Prior to Enactment of the Pension Protection Act”, first and second lines of the second paragraph of the column, the language “Responsiveness Test: Charitable Trusts. Before enactment of the PPA,” is corrected to read “Responsiveness Test: Charitable Trusts. Before enactment of the PPA,”.

2. On page 42336, column 2, in the preamble, under the paragraph heading “Qualification Requirements for Type III Supporting Organizations Prior to Enactment of the Pension Protection Act”, seventh line of the second paragraph of the column, the language “trust under state law, (2) each publicly” is corrected to read “trust under State law, (2) each publicly”.

3. On page 42336, column 3, in the preamble, under the paragraph heading “PPA Amendments to Qualification Requirements for Type III Supporting Organizations”, second line of the second paragraph, the language “enacted Code sections 509(d) and” is corrected to read “enacted Code sections 509(f) and”.

4. On page 42336, column 3, in the preamble, under the paragraph heading “PPA Amendments to Qualification Requirements for Type III Supporting Organizations”, third line from the bottom of the column, the language “Protection of 2006,” as Passed by the” is corrected to read “Protection Act of 2006,” as Passed by the”.

LaNita Van Dyke,
Chief, Publications and Regulations Branch, Legal Processing Division, Associate Chief Counsel (Procedure and Administration).

[FR Doc. E7-16715 Filed 8-23-07; 8:45 am]

BILLING CODE 4830-01-P